DEPARTMENT OF ENERGY

Federal Energy Regulatory Commission

[Docket No. RP97-29-004]

Panhandle Eastern Pipe Line Company; Notice of Compliance Filing

May 11, 2000.

Take notice that on May 2, 2000, Panhandle Eastern Pipe Line Company (Panhandle) tendered for filing as part of its FERC Gas Tariff, First Revised Volume No. 1, Second Revised Sheet No. 273 and First Revised Sheet No. 273A, to be effective June 2, 2000.

Panhandle asserts that the purpose of this filing is to comply with the Commission's Order on Remand issued on April 12, 2000 in Docket No. RP97-29-003 (April 12 Order), 91 FERC ¶61,037, to reflect modifications to Section 13 of the General Terms and Conditions, Policy For Construction on New Receipt or Delivery Facilities. The April 12 Order affirms previous orders in the subject proceeding in which the Commission accepted Panhandle's interconnect policy as stated on tariff sheets filed on April 21, 1997. The April 12 Order also requires Panhandle to conform its interconnect policy as necessary to reflect the five conditions in the Commission's new interconnect policy as announced in the April 12 Order.

Panhandle states that copies of this filing are being served on all affected customers, applicable state regulatory agencies and parties to this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-12265 Filed 5-15-00; 8:45 am]

BILLING CODE 6717-01-M